DEPARTMENT OF AGRICULTURE

Food and Nutrition Service

Agency Information Collection Activities: Proposed Collection; Comment Request: FNS Computer System Access Request Form, FNS-674

AGENCY: Food and Nutrition Service, USDA.

ACTION: Notice.

SUMMARY: In accordance with the Paperwork Reduction Act of 1995, this notice invites the general public and other public agencies to comment on proposed information collection for granting computer access to State agencies and Trust Territories.

DATES: Written comments must be submitted on or before September 30, 2002.

ADDRESSES: Comments may be sent to John Rankin, Deputy Director, Information Technology Division, Food and Nutrition Service, U.S. Department of Agriculture, 3101 Park Center Drive, Alexandria, VA 22302.

Comments are invited on: (a) Whether the proposed collection of information is necessary for the proper performance of the agency, including whether the information has practical utility; (b) the accuracy of the agency's estimate of the burden of the proposed collection of information, including the validity of the methodology and assumptions used; (c) ways to enhance the quality, utility, and clarity of the information to be collected; (d) ways to minimize the burden of the collection of information on those who respond, including the use of appropriate automated, electronic, mechanical, or other technological collection techniques or other forms of information technology.

All responses to this notice will be summarized and included in the request for OMB approval. All comments will also become a matter of public record.

FOR FURTHER INFORMATION CONTACT: Requests for additional information or copies of the information collection form and instruction should be directed to John Rankin, (703) 605-4433.

SUPPLEMENTARY INFORMATION: Title: FNS Computer System Access Request.

OMB Number: Not yet assigned.

Expiration: None.

Type of Request: New information collection.

Abstract: The FNS Computer System Access Request Form, FNS-674, is designed for use in all situations where access to an FNS computer system is required, where current access is required to be modified, or where access is no longer required and must be deleted. Users who access FNS systems are: State agencies, other Federal agencies, and FNS Regional, Field Office, and Compliance Office users.

In State agencies, the State Information Systems Security Officer (SISSO) acts as a liaison between the State agency and the Deputy Regional Information Systems Security Offices (DRISSOs) and the FNS Headquarters Information Systems Security Office. The SISSO is responsible for ensuring State users and entities comply with FNS Information Systems Security Policy and Procedures' Handbook 701 and 702 developed for State systems and that they maintain proper controls over FNS security features used by State clients. The SISSO will over see completion of the FNS-674 forms and forward completed forms to the DRISSO.

The DRISSOs act on behalf of FNS Headquarters Information Systems Security Office to ensure that Regional, Field Office, and Compliance Office users comply with FNS handbook security policies developed for the regional environment. DRISSOs will forward completed FNS-674 forms to the FNS Headquarters Information Systems Security Office.

The Office of Management and Budget Circular No A-130, Appendix III (A) (3) Revised, dated February 8, 1996, requires that the information be collected.

Respondents: State agencies, other Federal agencies, FNS Regional, Field Office and Compliance Office users, and Trust Territories.

Estimated Number of Respondents: 5,000 (includes the 50 State and Trust Territories).

Estimate of Burden:

Number of responses per respondent: One.

Estimated total annual responses: 5000.

Hours per response: .16666.

Number of record keepers: 5000.

Estimated annual hours per record keeper: .03333.

Total annual record keeping hours: 166.65.

Total annual reporting hours: 833.3.

Total annual reporting and record keeping hours: 999.95.

Dated: May 16, 2002.
Eric M. Bost,
Under Secretary, Food, Nutrition, and Consumer Services.

[FR Doc. 02-19421 Filed 7-31-02; 8:45 am]

BILLING CODE 3410-30-P